DEPARTMENT OF TRANSPORTATION

Pipeline and Hazardous Materials Safety Administration

[Docket No. PHMSA-2018-0021]

Pipeline Safety: Information Collection Activities

AGENCY: Pipeline and Hazardous Materials Safety Administration (PHMSA), DOT.

ACTION: Notice and request for comments.

SUMMARY: In accordance with the Paperwork Reduction Act of 1995, PHMSA invites comments on three information collections that are due to expire during the summer of 2018. PHMSA will request an extension with no change for the information collections identified by OMB control numbers 2137-0048, 2137-0600, and 2137-0618.

DATES: Interested persons are invited to submit comments on or before May 25, 2018.

ADDRESSES: Comments may be submitted in the following ways:

E-Gov website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the Docket No. PHMSA-2018-0021, at the beginning of your comments. Note that all comments received will be posted without change to http://www.regulations.gov, including any personal information provided.

Privacy Act Statement: DOT may solicit comments from the public regarding certain general notices. DOT posts these comments, without edit, including any personal information the commenter provides, to www.regulations.gov, as described in the system of records notice (DOT/ALL-14 FDMS), which can be reviewed at www.dot.gov/privacy.

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on Docket No. PHMSA-2018-0021.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by fax at 202-366-4566, or by mail at DOT, PHMSA, 1200 New Jersey Avenue SE, PHP-30, Washington, DC 20590-0001.

SUPPLEMENTARY INFORMATION: Section 1320.8(d), Title 5, Code of Federal Regulations, requires PHMSA to provide interested members of the public and affected agencies an opportunity to comment on information collection and recordkeeping requests. This notice identifies three information collection requests that PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Recordkeeping Requirements for Liquefied Natural Gas (LNG) Facilities.

OMB Control Number: 2137-0048.

Current Expiration Date: 06/30/2018.

Type of Request: Renewal with no change of a currently approved information collection.

Abstract: LNG facility owners and operators are required to maintain records, make reports, and provide information to the Secretary of Transportation at the Secretary's request.

Affected Public: Owners and Operators of Liquefied Natural Gas Facilities.

Annual Reporting and Recordkeeping Burden:

Estimated Number of Responses: 101.

Estimated Annual Burden Hours: 12,120.

Frequency of Collection: On occasion.

2. Title: Qualification of Pipeline Safety Training.

OMB Control Number: 2137-0600.

Current Expiration Date: 07/31/2018.

Type of Request: Renewal with no change of a currently approved information collection.

Abstract: All individuals responsible for the operation and maintenance of pipeline facilities are required to be properly qualified to safely perform their tasks. 49 CFR 192.807 requires each operator to maintain records that demonstrate compliance with the mandated qualification criteria. Operators must keep records to be provided upon request.

Affected Public: Operators of pipeline facilities.

Annual Reporting and Recordkeeping Burden:

Estimated Number of Responses: 29,167.

Estimated Annual Burden Hours: 7,292.

Frequency of collection: On occasion.

3. Title: Pipeline Safety: Periodic Underwater Inspection and Notification of Abandoned Underwater Pipelines.

OMB Control Number: 2137-0618.

Current Expiration Date: 8/31/2018.

Type of Request: Renewal with no change of a currently approved information collection.

Abstract: The Federal pipeline safety regulations at 49 CFR 192.612 and 195.413 require operators to conduct appropriate periodic underwater inspections in the Gulf of Mexico and its inlets. If an operator discovers that its underwater pipeline is exposed or poses a hazard to navigation, the operator must contact the National Response Center by telephone within 24 hours of discovery and report the location of the exposed pipeline, among other remedial actions, such as marking and reburial in some cases. The Federal pipeline safety regulations for reporting the abandonment of underwater pipelines can be found at 49 CFR 192.727 and 195.59. These provisions contain certain requirements for disconnecting and purging abandoned pipelines and require operators to notify PHMSA of each abandoned offshore pipeline facility or each abandoned onshore pipeline facility that crosses over, under or through a commercially navigable waterway.

Affected Public: Operators of pipeline facilities (except master meter operators).

Annual Reporting and Recordkeeping Burden:

Estimated Number of Responses: 92.

Estimated Annual Burden Hours: 1,372.

Frequency of collection: On occasion.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on March 20, 2018, under authority delegated in 49 CFR 1.97.
Alan K. Mayberry,
Associate Administrator for Pipeline Safety.

[FR Doc. 2018-05981 Filed 3-23-18; 8:45 am]

BILLING CODE 4910-60-P